POSTAL RATE COMMISSION

[Docket No. A2000-1; Order No. 1292]

Appeal of Post Office Closing

AGENCY: Postal Rate Commission.

ACTION: Notice of Docket No. A2000-1.

SUMMARY: The Commission has established a docket to consider an objection to the closing of the Roanoke, WV post office. It also has issued a procedural schedule.

DATES: See SUPPLEMENTARY INFORMATION section for dates.

ADDRESSES: Correspondence should be addressed to Margaret P. Crenshaw, Secretary, Postal Rate Commission, 1333 H Street NW., Suite 300, Washington, DC 20268-0001.

FOR MORE INFORMATION CONTACT: Stephen L. Sharfman, General Counsel, (202) 789-6820.

SUPPLEMENTARY INFORMATION: On May 10, 2000, the Postal Rate Commission (PRC) issued a notice and order (No. 1292) accepting an appeal of the closing of the Roanoke, West Virginia post office, ZIP Code 26423. The appeal was filed by Robert J. Conley, president of the Lewis County Commission, on behalf of the Commission and post office customers, pursuant to 39 U.S.C. 404(b)(5). The appeal has been assigned Docket No. A2000-1 and a procedural schedule has been established.

The appeal was filed April 21, 2000. The categories of issues apparently raised are the effect on the community (39 U.S.C. 404(b)(2)(A)) and effect on postal services (39 U.S.C. 404(b)(2)(C)).

After the Postal Service files the administrative record and the Commission reviews it, the Commission may find that there are more legal issues than those set forth above. Or, the Commission may find that the Postal Service's determination disposes of one or more of those issues.

Scheduling matters. The Postal Reorganization Act requires that the Commission issue its decision within 120 days from the date this appeal was filed (39 U.S.C. 404(b)(5)). The procedural schedule has been developed to accommodate the delay in publication of this notice and order. In the interest of expedition, in light of the 120-day decision schedule, the Commission may request the Postal Service to submit memoranda of law on any appropriate issue. If requested, such memoranda will be due 14 days from the issuance of the request and the Postal Service shall serve a copy of its memoranda on the petitioners. The Postal Service may incorporate by reference in its briefs or motions any arguments presented in memoranda it previously filed in this docket. If necessary, the Commission also may ask petitioners or the Postal Service for more information.

Ordering paragraphs. Ordering paragraph (a) directs the Postal Service shall file the record in this appeal by May 25, 2000. Ordering paragraph (b) directs the Secretary of the Postal Rate Commission to publish this notice and order and procedural schedule in the Federal Register.

Procedural schedule. Key dates in this docket include: April 21, 2000, filing of appeal letter; May 10, 2000, issuance of Commission notice and order on filing of appeal; June 5, 2000, last day of filing of petitions to intervene (see 39 CFR 3001.111(b)); June 15, 2000, deadline for petitioner's participant statement or initial brief (see 39 CFR 3001.115(a) and (b)); July 5, 2000, deadline for Postal Service's answering brief (see 39 CFR 3001.115(c)); July 20, 2000, deadline for petitioner's reply brief, should petitioner choose to file one (see 39 CFR 3001.115(d)); July 27, 2000, deadline for motions by any party requesting oral argument. The Commission will schedule oral argument only when it is a necessary addition to the written filings (see 39 CFR 3001.116); August 21, 2000, expiration of the Commission's 120-day decisional schedule (see 39 U.S.C. 404(b)(5)).

Dated: May 11, 2000.
Margaret P. Crenshaw,
Secretary.

[FR Doc. 00-12309 Filed 5-16-00; 8:45 am]

BILLING CODE 7710-FW-P